DEPARTMENT OF HEALTH AND HUMAN SERVICES

Administration for Children and Families

Submission for OMB Review; Comment Request

Title: Form ACF-300, TANF High Performance Bonus for Fiscal Year 2002, Electronic Transmission File Layouts and Federal System Edits on Work Measures.

OMB No.: 0970-0230.

Description: The purpose of this notice is to solicit comments on the proposed extension of the previously approved information collection (Form ACF-300), which obtains data upon which to base the computation for measuring State performance in meeting the legislative goals of TANF as specified in section 403(a)(4) of the Social Security Act and 45 CFR part 270. This information collection replaced Form ACF-200 for FY 2002 (Bonus Year 2002). States are not required to submit this information unless they elect to compete on a work measure for the TANF High Performance Bonus awards.

Respondents: Respondents may include any of the 50 States, Guam, Puerto Rico, and the Virgin Islands.

Annual Burden Estimates
Instrument | Number of respondents | Number of responses per respondent | Average burden hours per response | Total burden hours
The Revised Reporting Requirements And Transmission Layouts On TANF Work Measures For FY 2002, TANF High Performance Bonuses (HPB) | 54 | 2 | 16 | 1,728
Estimated Total Annual Burden Hours |  |  |  | 1,728

Additional Information: Copies of the proposed collection may be obtained by writing to The Administration for Children and Families, Office of Information Services, 370 L'Enfant Promenade, SW., Washington, DC 20447, Attn: ACF Reports Clearance Officer.

OMB Comment: OMB is required to make a decision concerning the collection of information between 30 and 60 days after publication of this document in the Federal Register. Therefore, a comment is best assured of having its full effect if OMB receives it within 30 days of publication. Written comments and recommendations for the proposed information collection should be sent directly to the following: Office of Management and Budget, Paperwork Reduction Project, 725 17th Street, NW., Washington, DC 20503, Attn: Desk Officer for ACF.

Dated: June 17, 2002.
Bob Sargis,
Reports Clearance Officer.

[FR Doc. 02-15789 Filed 6-21-02; 8:45 am]

BILLING CODE 4184-01-M